DEPARTMENT OF HOMELAND SECURITY

U.S. Customs and Border Protection

DEPARTMENT OF AGRICULTURE

Forest Service

Notice of Availability of the Bog Creek Road Project Draft Environmental Impact Statement

AGENCY: U.S. Customs and Border Protection, Department of Homeland Security and U.S. Forest Service, Department of Agriculture.

ACTION: Notice of availability of Draft Environmental Impact Statement concerning the repair and maintenance of Bog Creek Road and closure of certain roads within the Blue-Grass Bear Management Unit in the Selkirk Mountains in Boundary County, Idaho; request for comments.

SUMMARY: U.S. Customs and Border Protection (CBP) and the U.S. Forest Service (Forest Service) Idaho Panhandle National Forests (IPNF) announce the availability of the Bog Creek Road Project Draft Environmental Impact Statement (EIS) for public review. The Draft EIS identifies and assesses potential impacts upon the environment of: Repairing and maintaining an approximately 5.6-mile section of the existing Bog Creek Road, which is located in the Selkirk Mountains in Boundary County, Idaho, within approximately two miles of the Canadian border, on land within the Blue-Grass Bear Management Unit (BMU) that is managed by the Forest Service; and closing for motorized use additional roads within the Blue-Grass BMU to comply with the Forest Plan Amendments for Motorized Access Management within the Selkirk and Cabinet-Yaak Grizzly Bear Recovery Zones and to reduce road density in the Blue-Grass BMU. This notice initiates the public review process for the Draft EIS. This process is conducted pursuant to the National Environmental Policy Act of 1969 (NEPA) and the President's Council on Environmental Quality regulations for Implementing the NEPA, and CBP and Forest Service NEPA guidelines. The purpose of the public review process is to solicit public comments regarding the Draft EIS. Additionally, this notice, in accordance with the National Historic Preservation Act, will allow members of the general public to provide comments to CBP and the Forest Service regarding whether the Proposed Action may have any potential impacts on any historic resources.

DATES:

For Comments: To ensure consideration, comments must be received by July 16, 2018. Comments may be submitted as set forth in the ADDRESSES section of this document.

For Public Open Houses: Public open houses will be held at the following times:

• Priest Lake, Idaho: June 19, 2018, 5:30 to 7:30 p.m.

• Sandpoint, Idaho: June 20, 2018, 5:30 to 7:30 p.m.

• Bonners Ferry, Idaho: June 21, 2018, 5:30 to 7:30 p.m.

ADDRESSES:

For Obtaining Copies of the Draft EIS: Electronic copies of the Draft EIS are available at https://www.fs.usda.gov/project/?project=41296 and https://www.cbp.gov/document/environmental-assessments/bog-creek-road-project-environmental-impact-statement.

CD-ROM and print copies are available by sending a request to Paul Enriquez at Paul.Enriquez@cbp.dhs.gov or 949-643-6365 or at the following Forest Service locations:

• The IPNF Supervisors Office, 3815 Schreiber Way, Coeur d'Alene, Idaho;

• Sandpoint Ranger District, 1602 Ontario Street, Sandpoint, Idaho;

• Bonners Ferry Ranger District, 6286 Main Street, Bonners Ferry, Idaho; and

• Priest Lake Ranger District, 32203 Highway 57, Priest River, Idaho.

For Submitting Comments: You may submit written comments on the Draft EIS during the 45-day comment period by mail or email, or by attending a public open house. See SUPPLEMENTARY INFORMATION for information on the public comment process. Please submit your written comments using one of the following methods:

• Mail: Bog Creek Road EIS, P.O. Box 643, Flagstaff, Arizona 86002-0643;

• Email: SPWBogCreekEIS@cbp.dhs.gov;

• Hand delivered to any of the Forest Service locations where CD-ROM and print copies of the Draft EIS are available; or

• FAX: 208-765-7426.

For Public Open Houses: Public open houses will be held at the following locations:

• Priest Lake, Idaho: Priest Lake Ranger District—32203 Highway 57, Priest River, Idaho;

• Sandpoint, Idaho: Sandpoint Ranger District—1602 Ontario Street, Sandpoint, Idaho;

• Bonners Ferry, Idaho: Bonners Ferry Ranger District—6286 Main Street, Bonners Ferry, Idaho.

FOR FURTHER INFORMATION CONTACT: Paul Enriquez, CBP, Border Patrol and Air and Marine Program Management Office, by telephone at 949-643-6365, or email at Paul.Enriquez@cbp.dhs.gov. Persons who require assistance accessing information, please contact the U.S. Department of Agriculture's (USDA) Target Center at 202-720-2600 (voice and TDD) or contact USDA through the Federal Relay Service at 800-877-8339.

SUPPLEMENTARY INFORMATION:

Proposed Action

U.S. Customs and Border Protection (CBP) and the U.S. Forest Service (Forest Service) Idaho Panhandle National Forests (IPNF) (collectively the Agencies) are proposing a road repair, maintenance, and motorized closure project in the Continental Mountain area of the Idaho Panhandle National Forests within the Bonners Ferry and Priest Lake Ranger Districts. The project has two objectives: (1) To provide safe east-west access for administrative use (as explained below) to this section of the U.S.-Canada border across the Selkirk Mountains, and (2) to meet grizzly bear motorized access standards within the Blue-Grass BMU of the Selkirk Grizzly Bear Recovery Zone in order to comply with the Forest Plan Amendments for Motorized Access Management within the Selkirk and Cabinet-Yaak Grizzly Bear Recovery Zones (Access Amendment).

The Bog Creek Road Project Draft EIS has been prepared to identify and assess potential impacts from the Proposed Action on the environment. The Proposed Action was developed through collaborative efforts between CBP, the Forest Service, and the public, and was designed to meet the goals and objectives established for the project while meeting as many other resource needs as possible. The Proposed Action consists of three components: (1) Road repair and maintenance of Bog Creek Road and change in motorized use designation; (2) change in motorized use designation for Blue Joe Creek Road; and (3) motorized closure of selected seasonally restricted Forest Service roads. The Proposed Action is described below.

The first component is the repair and maintenance of an approximately 5.6-mile section of Bog Creek Road (Forest Service Road [FSR] 1013), which would be conducted to allow the road to meet Forest Service road maintenance level 2 standards and would generally allow access for high-clearance vehicles. Maintenance level 2 roads are described in Forest Service Handbook 7709.58. Bog Creek Road is currently designated as a seasonally restricted road. Motorized use by the Forest Service, CBP, law enforcement, and other administrative agencies is permitted between April 1 and November 15 (active bear year) but is limited to 57 administrative vehicle round trips per active bear year. After road repair activities, the road designation would change to administrative open (as-needed administrative motorized access). Under the administrative open road designation, Bog Creek Road would be open to as-needed administrative motorized access but not open to the public for motorized travel.

Repair and maintenance would consist of grading and resurfacing areas of the road that have been heavily eroded by surface water flows, filling potholes, and removing protruding boulders. Repair would also include installation of six new culverts and replacement of six of the existing 67 corrugated metal pipe culverts located along the length of the roadway because they have partially rusted through, otherwise exceeded their usable life, or do not meet current design standards for width and capacity. The most intensive repair would occur at Spread Creek, where a culvert failure and road washout have made the road completely impassable. The road would not be widened, but limited areas that no longer meet minimum width requirements may require cut and fill work to achieve the desired road operating and safety standards. Trees and other vegetation within the roadway and to either side would be grubbed or cut back to facilitate safe vehicle passage.

The second component is the change in motorized designation of Blue Joe Creek Road (FSR 2546). Blue Joe Creek Road extends from the eastern terminus of the Bog Creek Road, running 7.4 miles alongside Blue Joe Creek, to the Continental Mine property. Blue Joe Creek Road is currently designated as seasonally restricted, and motorized access is limited to 57 vehicle round trips per active bear year. Under the Proposed Action, the current seasonal restrictions that limit the number of motorized administrative trips along Blue Joe Creek Road would be removed. The road would be designated as administrative open, which would allow for as-needed administrative motorized trips. This change in designation, when combined with the Bog Creek Road designation change, would allow for administrative trips by private property owners to access their property within the Blue-Grass BMU.

The final component is the motorized closure of selected seasonally restricted Forest Service roads. Under the Proposed Action, approximately 26 miles of seasonally restricted Forest Service roads would be closed to all wheeled motorized use within the Blue-Grass BMU. Closing the roads would allow the Forest Service to meet the requirements of at least 55 percent of the BMU as core area habitat, and no more than 26 percent of the BMU having a total motorized route density (TMRD) greater than 2 miles per square mile, as specified in the Access Amendment. The means by which motorized road closure would take place would vary by site and would include both decommissioning and long-term storage. Decommissioning involves permanently removing a road from the Forest Service transportation system. Long-term storage involves rendering a road undrivable. Roads stored for creation of grizzly bear core habitat would remain stored for a minimum of ten years. On-the-ground road work is typically the same or very similar for decommissioning and long-term storage, as both are intended to prevent future failures and erosion hazards. Both methods may involve one or a combination of the following treatments: Fully or partially recontouring the road prism, ripping the road surface, removing culverts and recontouring stream crossings, planting and seeding, mulching, or slashing disturbed areas.

All roads proposed for motorized closure under the Proposed Action are currently classified as seasonally restricted Forest Service roads. Administrative motorized use of these roads is permitted between April 1 and November 15; non-motorized public access on these roads is permitted year-round.

Alternatives

The Agencies developed alternatives to the Proposed Action described above and disclose the environmental impacts of these alternatives in the Draft EIS. In addition to the No-Action Alternative (Alternative 1) and the Proposed Action (Alternative 2), there are two other action alternatives analyzed: Modified Proposed Action (Alternative 3) and Blue-Grass BMU West-East Open Access (Alternative 4).

The No-Action Alternative (Alternative 1) represents the effects of not implementing the proposed repair and maintenance of Bog Creek Road and motorized closure of seasonally restricted Forest Service roads, while taking into account the effects of other past, ongoing, and reasonably foreseeable activities occurring in the area. This alternative proposes that no repair and maintenance activities would occur on the 5.6-mile section of Bog Creek Road and that the 26 miles of seasonally restricted Forest Service roads would continue to be available for motorized use in accordance with seasonal access restrictions. There would be no change in Forest Service management of the roads and CBP activities in the Blue-Grass BMU. Although the Forest Service would continue to examine road closure options to meet Access Amendment requirements within the Blue-Grass BMU under the No-Action Alternative, compliance with the Access Amendment standards would not change until currently unidentified other viable road closure options are implemented.

Alternative 3 is a modified version of the Proposed Action that would close a different set of seasonally restricted Forest Service roads to motorized access. The repair and maintenance activities proposed for Bog Creek Road and the administrative open designation for Bog Creek Road and Blue Joe Creek Road are the same as described under the Proposed Action. Under Alternative 3, approximately 25 miles of Forest Service roads would be closed to all motorized use by the Forest Service within the Blue-Grass BMU. This would allow the Forest Service to meet the Access Amendment grizzly bear core area habitat requirement of 55 percent and the TMRD requirement of 26 percent. Two of the nine roads proposed for motorized road closure under Alternative 3 would be different from the roads proposed for closure under the Proposed Action. These roads were included in this alternative because closing these roads would create more grizzly bear core area habitat in upper Grass Creek, a place that has been heavily and continuously used by grizzly bears since at least the 1980s. All roads proposed for motorized closure under Alternative 3 are classified as seasonally restricted Forest Service roads. Administrative motorized use of these roads is permitted between April 1 and November 15. Non-motorized public access on these roads is permitted year-round.

Alternative 4 is a modified version of the Proposed Action that would open Bog Creek Road and roads along the eastern approach to Bog Creek Road to public motorized access. Under Alternative 4, Bog Creek Road repair and maintenance and the motorized closure of seasonally restricted Forest Service roads would be identical to the Proposed Action. After repair of Bog Creek Road is completed, Alternative 4 would designate the 5.6 miles of the repaired Bog Creek Road as open for public motorized access year-round. However, winter motorized snowmobile use by the public is currently not allowed on Bog Creek Road as a result of rulings by the United States District Court of the Eastern District of Washington on November 7, 2006, and February 27, 2007, relating to recovery of Selkirk Mountain woodland caribou and the potential impacts of snowmobile use within the recovery area. Approximately 7.4 miles of Blue Joe Creek Road would change to an administrative open designation (as-needed administrative motorized access). Additionally, the designation of roads along the eastern approach to Bog Creek Road (1 mile of FSR 2546 and FSRs 1011, 636, and 1009) would also change from the current seasonally restricted designation (limited motorized access) to an open road designation (public motorized access) to allow for continuous public motorized travel across the Blue-Grass BMU. Under Alternative 4, the same 26 miles of seasonally restricted Forest Service roads as identified in the Proposed Action would be closed to all wheeled motorized use within the Blue-Grass BMU.

The Draft EIS addresses the potential impacts from the Proposed Action and alternatives. Evaluations were conducted on various resources present in the Blue-Grass BMU, including: Threatened and endangered species, wildlife, fish, special-status plants, water, soils, recreation, and heritage. A preferred alternative to the Proposed Action has not yet been identified by the Agencies.

Public Comment and Open Houses

The Draft EIS is available for public comment. The Agencies invite comments on all aspects of the Draft EIS. Comments that will provide the most assistance to the Agencies will reference a specific section of the Draft EIS, explain the reason for any recommended change, and include data, information, or authority that supports such recommended change. Substantive comments received during the comment period will be addressed in the Final EIS. The Final EIS will be made available to the public through a Notice of Availability (NOA) in the Federal Register.

This project is subject to 36 CFR part 218, subparts A and B of the Forest Service's Project-level Pre-decisional Administrative Review Process. Pursuant to 36 CFR part 218, only those who provide timely and specific written comments regarding the proposed project during a comment period are eligible to file an objection with the Forest Service. Comments received regarding this Draft EIS are considered part of the administrative record for the National Environmental Policy Act (NEPA) review. Within this context, a commenter's personally identifiable information, such as name and contact information, may be released to a third party upon request under the Freedom of Information Act. Comments submitted anonymously, without a name and contact information, will be accepted and considered; however, anonymous comments will not provide the commenter with standing to participate in the Forest Service objection process.

The Agencies will hold three public open houses to inform the public and solicit comments about the Draft EIS. The open houses will include displays and handouts and will provide an opportunity for the public to ask questions and submit written comments on the Draft EIS. Open house schedule is as follows:

• June 19, 2018, 5:30 to 7:30 p.m.: Priest Lake Ranger District—32203 Highway 57, Priest River, Idaho;

• June 20, 2018, 5:30 to 7:30 p.m.: Sandpoint Ranger District—1602 Ontario Street, Sandpoint, Idaho;

• June 21, 2018, 5:30 to 7:30 p.m.: Bonners Ferry Ranger District—6286 Main Street, Bonners Ferry, Idaho.

This process is being conducted pursuant to the NEPA (42 U.S.C. 4321 et seq.), the President's Council on Environmental Quality Regulations for Implementing the NEPA (40 CFR parts 1500-1508), DHS Directive 023-01 and Instruction 023-01-001-01, and CBP and Forest Service NEPA guidelines.

Prior Public Scoping

Public scoping for the Bog Creek Road repair and maintenance proposal was initially conducted by CBP in February and March of 2013. Information gathered from the initial scoping effort was used to inform the Agencies about what level of NEPA analysis was necessary to evaluate the proposed project. The initial scoping information included the possibility that road closures may become part of the proposed action, but did not include specific motorized road closure information. Using initial scoping information, the Agencies determined that the NEPA analysis would be conducted through an EIS process.

The Notice of Intent (NOI) stating that CBP and the Forest Service planned to prepare an EIS for the Bog Creek Road Project was published in the Federal Register on April 27, 2016 (81 FR 24839). The NOI asked for public comment on the proposal from April 27 to May 27, 2016. The Proposed Action described in the NOI included both repair and maintenance of Bog Creek Road and motorized road closures of specific road segments in the Blue-Grass BMU. In total, 17 comment letters were received during the NOI scoping period.

All scoping comments submitted during the initial scoping and NOI scoping were included in issue development for the current EIS process. A Scoping Report that summarizes both scoping efforts is available for review as part of the project record. The Scoping Report is available on the CBP public website: https://www.cbp.gov/document/environmental-assessments/bog-creek-road-project-environmental-impact-statement.

Public Involvement in Historic Preservation Activities Under Section 106 of the National Historic Preservation Act

Section 106 of the National Historic Preservation Act (NHPA) requires Federal agencies to review all actions which may affect resources listed on, or eligible for, the National Register of Historic Places in order to take into account the effects of their undertakings on historic properties. In accordance with NHPA, the Agencies seek to obtain public comments on historic preservation issues related to the road repair and closure of roads for motorized use. This process will also afford the Idaho State Historic Preservation Officer and tribal governments a reasonable opportunity to comment on such undertakings.

Next Steps

After the public review period is complete and the Agencies have reviewed the results, a list of comments and responses will be compiled and included in the Final EIS. The Agencies will select a preferred alternative that will be set forth in the Final EIS and Draft Record of Decision (ROD). The Final EIS and Draft ROD will be made available to the public through an NOA in the Federal Register.

Dated: May 25, 2018.
Karl H. Calvo,
Assistant Commissioner, Office of Facilities and Asset Management, Office of Enterprise Services, U.S. Customs and Border Protection.
Gregory C. Smith,
Acting Associate Deputy Chief, National Forest System, U.S. Forest Service.

[FR Doc. 2018-11766 Filed 5-31-18; 8:45 am]

BILLING CODE 9111-14-P